DEPARTMENT OF COMMERCE

Bureau of Industry and Security

Emerging Technology and Research Advisory Committee; Notice of Partially Closed Meeting

The Emerging Technology and Research Advisory Committee (ETRAC) will meet on April 25 and 26, 2013, 8:30 a.m., Room 3884, at the Herbert C. Hoover Building, 14th Street between Pennsylvania and Constitution Avenues NW., Washington, DC. The Committee advises the Office of the Assistant Secretary for Export Administration on emerging technology and research activities, including those related to deemed exports.

Agenda

Thursday, April 25

Open Session: 8:30 a.m.-11:30 a.m.

1. Opening Remarks.

2. Panel Discussion on Deemed Exports.

3. Emerging Technologies—Results from the Conference: Impact of Export Controls on Higher Education and Scientific Institutions—March 26-27, 2013, at the University of Pennsylvania.

4. Intelligence and National Security Alliance Innovations Showcase Program.

Closed Session: 1:30 p.m.-4:00 p.m.

Discussion of matters determined to be exempt from the provisions relating to public meetings found in 5 U.S.C. app. 2 §§ 10(a)(1) and 10(a)(3).

The Assistant Secretary for Administration, with the concurrence of the delegate of the General Counsel, formally determined on October 4, 2012, pursuant to Section 10(d) of the Federal Advisory Committee Act, as amended, that the portion of the meeting dealing with matters the of which would be likely to frustrate significantly implementation of a proposed agency action as described in 5 U.S.C. 552b(c) (9)(B) shall be exempt from the provisions relating to public meetings found in 5 U.S.C. app. 2 §§ 10(a)1 and 10(a)(3). The remaining portions of the meeting will be open to the public.

Friday, April 26

Open Session: 8:30 a.m.-3:30 p.m.

1. Discussion on status of the Export Control Reform Initiatives.

2. Basic Research and Emerging Technologies.

3. Emerging Technologies and Export Controls-NASA Tech Briefs.

4. Emerging Technologies Implications for Industry-University Collaborations.

5. Upcoming Committee tasks.

The open sessions will be accessible via teleconference to 40 participants on a first come, first serve basis. To join the conference, submit inquiries to Ms. Yvette Springer at Yvette.Springer@bis.doc.gov no later than, April 18, 2013.

A limited number of seats will be available for the public session. Reservations are not accepted. To the extent that time permits, members of the public may present oral statements to the Committee. The public may submit written statements at any time before or after the meeting. However, to facilitate the distribution of public presentation materials to the Committee members, the Committee suggests that presenters forward the public presentation materials prior to the meeting to Ms. Springer via email.

For more information, call Yvette Springer at (202) 482-2813.

Dated: April 4, 2013.
Yvette Springer,
Committee Liaison Officer.

[FR Doc. 2013-08313 Filed 4-9-13; 8:45 am]

BILLING CODE 3510-JT-P